U.S. SMALL BUSINESS ADMINISTRATION

[Disaster Declaration #12590 and #12591]

South Dakota Disaster Number SD-00041

AGENCY: U.S. Small Business Administration.

ACTION: Amendment 2.

SUMMARY: This is an amendment of the Presidential declaration of a major disaster for Public Assistance Only for the State of South Dakota (FEMA-1984-DR), dated 05/13/2011.

Incident: Flooding.

Incident Period: 03/11/2011 and continuing.

Effective Date: 06/08/2011.

Physical Loan Application Deadline Date: 07/12/2011.

Economic Injury (EIDL) Loan Application Deadline Date: 02/13/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of South Dakota, dated 05/13/2011, is hereby amended to include the following areas as adversely affected by the disaster.

Primary Counties: Union.

All other information in the original declaration remains unchanged.

(Catalog of Federal Domestic Assistance Numbers 59002 and 59008)

Jane M. D. Pease,
Acting Associate Administrator for Disaster Assistance.

[FR Doc. 2011-15140 Filed 6-17-11; 8:45 am]

BILLING CODE 8025-01-P